DEPARTMENT OF ENERGY

Federal Energy Regulatory Commission

[Docket No. RP01-75-001]

Mississippi River Transmission Corporation, Notice of Tariff Filing

November 28, 2000.

Take notice that on November 21, 2000, Mississippi River Transmission Corporation (MRT) tendered for filing as part of its FERC Gas Tariff, Third Revised Volume No. 1, Substitute Thirty Seventh Revised Sheet No. 5, with an effective date of November 1, 2000.

MRT states that the filing is being made to correct a mathematical error to the Maximum Rate for Authorized Overrun under the combined Field Zone and Market Zone rates that was filed on November 1, 2000.

MRT states that copies of the filing is being mailed to each of MRT's customers, all parties to this proceeding and to the State Commissions of Arkansas, Illinois and Missouri.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30734 Filed 12-1-00; 8:45 am]

BILLING CODE 6717-01-M